FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201309-001.

Agreement Name: Maersk Line/Hapag-Lloyd Slot Exchange Agreement.

Parties: Hapag Lloyd AG; Maersk Line A/S.

Filing Party: Wayne Rohde; Cozen O'Connor.

Synopsis: The amendment revises Article 5.3(a) to permit Hapag-Lloyd to load cargo to/from either Cartagena or Manzanillo on Maersk's OC1 service. The parties have requested expedited review.

Proposed Effective Date: 04/14/2024.

Location: https://www2.fmc.gov/FMC.Agreements.Web/Public/AgreementHistory/22412.

Dated: March 1, 2024.
Carl Savoy,
Federal Register Alternate Liaison Officer.

[FR Doc. 2024-04731 Filed 3-5-24; 8:45 am]

BILLING CODE 6730-02-P